DEPARTMENT OF THE INTERIOR

Bureau of Land Management

[MT-100-1220-AF]

Proposed Supplementary Rules for the Lower Blackfoot River Corridor; Montana

AGENCY: Bureau of Land Management, Interior.

ACTION: Proposed supplementary rules for recreation use of public lands along the Blackfoot River and McNamara Road, Missoula County, Montana.

SUMMARY: This notice proposes supplementary rules incorporating restrictions on recreation use on public lands located within one quarter mile on either side of the Blackfoot River and/or McNamara Road extending from Johnsrud Park upstream for approximately 10 miles. The proposed supplementary rules are necessary to address resource protection needs identified in the Lower Blackfoot Corridor Environmental Assessment, MT-100-00-02.

DATES: You should submit your comments by July 16, 2003. In developing final rules, BLM may not consider comments postmarked or received in person or by electronic mail after this date.

ADDRESSES: You may mail or deliver comments on the proposed supplementary rules to Field Manager, Bureau of Land Management, Missoula Field Office, 3255 Fort Missoula Road, Missoula, Montana 59804. You may also comment by internet e-mail at the following address: MT_Missoula_FO@blm.gov.

FOR FURTHER INFORMATION CONTACT: Nancy Anderson, Missoula Field Office, 3255 Fort Missoula Road, Missoula, Montana 59804, (406) 329-3914.

SUPPLEMENTARY INFORMATION:

I. Comment Procedure

II. Background

III. Discussion of Supplementary Rules

IV. Procedural Matters

I. Comment Procedure

A. How Do I Comment on the Proposed Supplementary Rules?

If you wish to comment, you may submit your comments by any one of several methods.

You may mail comments to Field Manager, Bureau of Land Management, Missoula Field Office, 3255 Fort Missoula Road, Missoula, Montana 59804.

You may deliver comments to the Missoula Field Office, 3255 Fort Missoula Road, Missoula, Montana 59804.

You may comment via email to MT_Missoula_FO@blm.gov. If you do not receive a confirmation that we have received your electronic message, contact us directly at (406) 329-3914.

Please submit your comments on issues related to the proposed supplementary rules, in writing or in email, to any of these addresses. Comments on the proposed supplementary rules should be specific, should be confined to issues pertinent to the proposed supplementary rules, and should explain the reason for any change you recommend. Where possible, your comments should reference the specific section or paragraph of the proposal that you are addressing.

BLM may not necessarily consider or include in the Administrative Record for the final rule comments that BLM receives or comments delivered to an address other than those listed above.

B. May I Review Comments Submitted By Others?

Comments, including names and street addresses of respondents, will be available for public review at the address listed under “ADDRESSES: Mail or personal delivery” during regular business hours (8 a.m. to 4:30 p.m.), Monday through Friday, except Federal holidays.

Individual respondents may request confidentiality, which we will honor to the extent allowable by law. If you wish to withhold your name or address, except for the city or town, you must state this prominently at the beginning of your comment. We will make all submissions from organizations or businesses, and from individuals identifying themselves as representatives or officials of organizations or businesses, available to public inspection in their entirety.

II. Background

The Blackfoot River Recreation Corridor is a multi-cooperative partnership consisting of private landowners, Montana Department of Fish, Wildlife and Parks, and BLM. This partnership was established in the 1970s to provide protection of natural resources and private property and to provide public safety along 26 miles of free flowing Blackfoot River.

In its June 1997 Lower Blackfoot River Assembled Land Exchange Environmental Assessment (MT-074-07-06), the BLM stated that “recreation along the Blackfoot River would continue to be managed under the existing Blackfoot River Recreation Corridor Landowner's Agreement.”

In 1998, BLM began acquiring land within the corridor. BLM now manages approximately 12,000 acres of land upstream from Johnsrud Park.

Since 1999, BLM has managed this area under an interim restriction order under 43 CFR 8364.1(d). This order contains prohibited acts related to camping, motor vehicle use, public safety, and resource protection.

In 2001, BLM completed the Lower Blackfoot Corridor Environmental Assessment. You may obtain the Environmental Assessment, upon which these supplementary rules are based, from the Missoula Field Office.

The lands affected by these rules are public lands in Missoula County, Montana, in the following sections:

T. 14 N., R. 15 W.,

Secs. 18 and 19.

T. 13 N., R. 16 W.,

Secs. 4, 5, and 6.

T. 14 N., R. 16 W.,

Secs. 13 and 14, 20 to 29, inclusive, 32 and 33.

III. Discussion of Supplementary Rules

Implementing these supplementary rules will establish consistency with the existing Montana Department of Fish, Wildlife and Parks' Blackfoot River Recreation Corridor rules. The proposed supplementary rules are consistent with the interim restriction order and are supported by the Lower Blackfoot Corridor Environmental Assessment MT-100-00-02.

BLM is proposing these supplementary rules under the authority of 43 CFR 8365.1-6.

IV. Procedural Matters

Executive Order 12866, Regulatory Planning and Review

These proposed supplementary rules are not a significant regulatory action and are not subject to review by Office of Management and Budget under Executive Order 12866. These supplementary rules would not have an effect of $100 million or more on the economy. They are not intended to affect commercial activity, but contain rules of conduct for public use of certain recreational areas. They would not adversely affect, in a material way, the economy, productivity, competition, jobs, the environment, public health or safety, or state, local, or tribal governments or communities. These proposed supplementary rules would not create a serious inconsistency or otherwise interfere with an action taken or planned by another agency. The supplementary rules would not alter the budgetary effects of entitlements, grants, user fees, or loan programs or the right or obligations of their recipients; nor would they raise novel legal or policy issues.

Clarity of the Supplementary Rules

Executive Order 12866 requires each agency to write regulations that are simple and easy to understand. We invite your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the supplementary rules be easier to understand if they were divided into more (but shorter) sections?

(5) Is the description of the proposed supplementary rules in the SUPPLEMENTARY INFORMATION section of this preamble helpful in understanding the proposed supplementary rules? How could this description be more helpful in making the supplementary rules easier to understand?

Please send any comments you have on the clarity of the supplementary rules to the address specified in the ADDRESSES section.

National Environmental Policy Act

The BLM has prepared an environmental assessment (EA) and has found that the proposed supplementary rules would not constitute a major Federal action significantly affecting the quality of the human environment under section 102(2)(C) of the Environmental Protection Act of 1969 (NEPA), 42 U.S.C. 4332(2)(C). The supplementary rules merely contain rules of conduct for certain recreational lands in Montana. These rules are designed to protect the environment and the public health and safety. A detailed statement under NEPA is not required. BLM has placed the EA and the Finding of No Significant Impact (FONSI) on file in the BLM Administrative Record at the address specified in the ADDRESSES section. The BLM invites the public to review these documents and suggests that anyone wishing to submit comments in response to the EA and FONSI do so in accordance with the “Public comment procedure” section above.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules would have no effect on business—commercial or industrial—use of the public lands.

Unfunded Mandates Reform Act

These supplementary rules would not impose an unfunded mandate on state, local, or tribal governments or the private sector of more than $100 million per year; nor would these proposed supplementary rules have a significant or unique effect on State, local, or tribal governments or the private sector. The supplementary rules would do not require anything of state, local, or tribal governments. Therefore, BLM is not required to prepare a statement containing the information required by the Unfunded Mandates Reform Act (2 U.S.C. 1531 et seq.).

Executive Order 12630, Governmental Actions and Interference With Constitutionally Protected Property Rights (Takings)

The supplementary rules do not represent a government action capable of interfering with constitutionally protected property rights. The supplementary rules do not address property rights in any form, and do not cause the impairment of anybody's property rights. Therefore, the Department of the Interior has determined that the supplementary rules would not cause a taking of private property or require further discussion of takings implications under this Executive Order.

Executive Order 13132, Federalism

The supplementary rules would not have a substantial direct effect on the states, on the relationship between the national government and the states, or on the distribution of power and responsibilities among the various levels of government. The supplementary rules would affect land in only one state, Montana, and do not address jurisdictional issues involving the state government. Therefore, in accordance with Executive Order 13132, BLM has determined that these proposed supplementary rules do not have sufficient Federalism implications to warrant preparation of a Federalism Assessment.

Executive Order 12988, Civil Justice Reform

Under Executive Order 12988, the Office of the Solicitor has determined that these proposed supplementary rules would not unduly burden the judicial system and that they meet the requirements of sections 3(a) and 3(b)(2) of the Order.

Executive Order 13175, Consultation and Coordination With Indian Tribal Governments

In accordance with Executive Order 13175, we have found that these proposed supplementary rules do not include policies that have tribal implications. The supplementary rules contain only rules of conduct for recreational use of certain public lands managed by BLM.

Paperwork Reduction Act

These proposed supplementary rules do not contain information collection requirements that the Office of Management and Budget must approve under the Paperwork Reduction Act, 44 U.S.C. 3501 et seq.Under the authority of 43 CFR 8365.1-6, BLM proposes the following supplementary rules on public lands of the Blackfoot River Corridor ¼ mile on either side of the Blackfoot River and/or McNamara Road.

Dated: May 7, 2003.
A. Jerry Meredith,
Acting State Director, Bureau of Land Management, Montana State Office.

Supplementary Rules for the Blackfoot River Corridor ¼ Mile on Either Side of the Blackfoot River or McNamara Road, or Both

Sec. 1 Prohibited Acts.

On public lands in secs. 18 and 19, T. 14 N., R. 15 W., secs. 4, 5, and 6, T. 13 N., R. 16 W., and secs. 13 and 14, 20 to 29, inclusive, 32 and 33, T. 14 N., R. 16 W., Principal Meridian, Montana, that are within ¼ mile on either side of the Blackfoot River or McNamara Road, or both, you must not:

a. Camp outside of designated sites or areas.

b. Light or maintain a fire except in designated areas or established by government fire rings.

c. Operate a motor vehicle off a designated trail, road, or route.

d. Collect firewood for other than on-site use. You may burn only dead and down wood.

e. Discharge a firearm or projectile (except for legal game hunting purposes as established by the Montana Department of Fish, Wildlife and Parks), or engage in other recreational shooting including, but not limited to, plinking, target shooting, or shooting varmints, etc.

f. Use a firework.

g. Violate a posted regulation pertaining to the protection of natural resources or public safety.

h. Occupy or camp at an area longer than 7 days during any 30-day period.

Sec. 2 Exemptions From the Supplementary Rules.

Persons who are exempt from these supplementary rules include any Federal, state, or local officer, and members of any organized search and rescue team or firefighting force in performance of an official duty, BLM employees on official administrative business, and any person authorized by the BLM.

Sec. 3 Penalties.

On public lands, under section 303(a) of the Federal Land Policy and Management Act of 1976 (43 U.S.C. 1733(a)) and 43 CFR 8360.0-7, any person who violates any of these supplementary rules within the boundaries established in the rules may be tried before a United States Magistrate and fined no more than $1000 or imprisoned for no more than 12 months, or both. Such violations may also be subject to the enhanced fines provided for by 18 U.S.C. 3571.

[FR Doc. 03-15055 Filed 6-13-03; 8:45 am]

BILLING CODE 4310-DN-P